FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 17, 2002.

A. Federal Reserve Bank of Boston (Richard Walker, Community Affairs Officer) 600 Atlantic Avenue, Boston, Massachusetts 02106-2204:

1. Joseph R. Doherty and the Joseph R. Doherty Family Limited Partnership, L.P., Somerville, Massachusetts; to acquire voting shares of Central Bancorp, Inc., Somerville, Massachusetts, and thereby indirectly acquire voting shares of Central Co-operative Bank, Somerville, Massachusetts.

B. Federal Reserve Bank of Chicago (Phillip Jackson, Applications Officer) 230 South LaSalle Street, Chicago, Illinois 60690-1414:

1. Brian and Elizabeth Riddell as general partners of Riddell Family Limited Partnership, Dakota Dunes, South Dakota, and William and Linda Biles, Tie Siding, Wyoming; to acquire additional voting shares of First Heartland Bancorp., Sioux Center, Iowa; and thereby indirectly acquire additional voting shares of First National Bank of Sioux Center, Sioux Center, Iowa, and Pender State Bank, Pender, Nebraska.

Board of Governors of the Federal Reserve System, December 27, 2001.
Jennifer J. Johnson,
Secretary of the Board.

[FR Doc. 02-34 Filed 1-2-02; 8:45 am]

BILLING CODE 6210-01-S